DEPARTMENT OF COMMERCE

Foreign-Trade Zones Board

[B-26-2018]

Foreign-Trade Zone (FTZ) 38—Spartanburg, South Carolina; Authorization of Production Activity; AFL Telecommunications, LLC; (Optical Cable for Data Transfer); Duncan, South Carolina

On April 11, 2018, AFL Telecommunications, LLC submitted a notification of proposed production activity to the FTZ Board for its facility within FTZ 38, in Duncan, South Carolina.

The notification was processed in accordance with the regulations of the FTZ Board (15 CFR part 400), including notice in the Federal Register inviting public comment (83 FR 17790, April 24, 2018). On August 9, 2018, the applicant was notified of the FTZ Board's decision that no further review of the activity is warranted at this time. The production activity described in the notification was authorized, subject to the FTZ Act and the FTZ Board's regulations, including Section 400.14, and to a restriction requiring privileged foreign status (19 CFR 146.41) on admissions of aramid yarn, ripcord, binder string and water swellable yarn.

Dated: August 9, 2018.
Elizabeth Whiteman,
Acting Executive Secretary.

[FR Doc. 2018-17561 Filed 8-14-18; 8:45 am]

BILLING CODE 3510-DS-P